DEPARTMENT OF STATE

[Public Notice 11005]

Raw or Semi-Finished Metals Covered Under IFCA 1245(d)

ACTION: Notice of reports.

SUMMARY: The Iran Freedom and Counter-Proliferation Act (IFCA) of 2012 Section 1245(d) describes “graphite, raw or semi-finished metals such as aluminum and steel, coal, and software for integrating industrial processes.” The Department of State is providing notice of a list of materials that constitute “raw or semi-finished metals” under IFCA 1245(d) for the purpose of implementing provisions of IFCA delegated to the Secretary of State, including Sections 1245(a)(1)(B), 1245(a)(1)(C), and 1245(e).

DATES: The Secretary of State approved this action January 9, 2020.

FOR FURTHER INFORMATION CONTACT: Alexander Stolar, Office of Counterproliferation Initiatives, Bureau of International Security and Nonproliferation, Department of State, Telephone: (202)-647-5035

SUPPLEMENTARY INFORMATION: For the purpose of implementing the provisions of IFCA delegated to the Secretary of State, including Sections 1245(a)(1)(B), 1245(a)(1)(C), and 1245(e), “raw or semi-finished metals” under IFCA 1245(d) includes, but is not limited to, the following materials (including all types of such materials and all alloys or compounds containing such materials): Aluminum, Americium, Antimony, Barium, Beryllium, Bismuth, Boron, Cadmium, Calcium, Cerium, Cesium, Chromium, Cobalt, Copper, Dysprosium, Erbium, Europium, Gallium, Gadolinium, Germanium, Gold, Hafnium, Hastelloy, Inconel, Indium, Iridium, Iron, Lanthanum, Lithium, Lead, Lutetium, Manganese, Magnesium, Mercury, Molybdenum, Monel, Neodymium, Neptunium, Nickel, Niobium, Osmium, Palladium, Platinum, Plutonium, Polonium, Potassium, Praseodymium, Promethium, Radium, Rhenium, Rhodium, Ruthenium, Samarium, Scandium, Silicon, Silver, Sodium, Steels, Strontium, Tantalum, Technetium, Tellurium, Terbium, Thallium, Thorium, Tin, Titanium, Tungsten, Uranium, Vanadium, Ytterbium, Yttrium, Zinc, and Zirconium.

Gonzalo O. Suarez,
Acting Deputy Assistant Secretary, International Security and Non-Proliferation, Department of State.

[FR Doc. 2020-00816 Filed 1-17-20; 8:45 am]

BILLING CODE 4710-27-P